DEPARTMENT OF ENERGY

Federal Energy Regulatory Commission

[Project No. 13705-002]

White Pine Waterpower, LLC; Notice of Preliminary Permit Application Accepted for Filing and Soliciting Comments, Motions to Intervene, and Competing Applications

On September 4, 2013, White Pine Waterpower, LLC, Idaho, filed an application for a preliminary permit, pursuant to section 4(f) of the Federal Power Act (FPA), proposing to study the feasibility of the White Pine Pumped Storage Project (or project) to be located near the town of Ely, White Pine County, Nevada. The sole purpose of a preliminary permit, if issued, is to grant the permit holder priority to file a license application during the permit term. A preliminary permit does not authorize the permit holder to perform any land-disturbing activities or otherwise enter upon lands or waters owned by others without the owners' express permission.

The proposed project would consist of the following: (1) An artificially lined, upper reservoir having a capacity of 5,535 acre-feet at 8,550 feet above mean sea level (msl); (2) an artificially lined, lower reservoir having a capacity of 5,535 acre-feet at 6,325 feet msl; (3) a 1,270-foot-long, 185-foot-high concrete-face, rock-fill (CFRD) or roller-compacted concrete (RCC) upper dam; (4) a 250-foot-long, 10-foot-high earthen dike; (5) a 630-foot-long, 40-foot-high CRFD or earthen dike; (6) a 7,200-foot-long, 40-foot-high zoned earth-and rock-fill or earthen dam; (7) a 3,400-foot-long, 17-foot-diameter unlined or concrete-lined low pressure tunnel; (8) a 2,200-foot-long, 17-foot-diameter concrete-lined and steel-lined vertical pressure shaft; (9) a 6,500-foot-long, 17-foot-diameter steel-lined high pressure tunnel; (10) a 2,200-foot-long, 20.5-foot-diameter unlined or concrete-lined tailrace; (11) a 350-foot-long by 100-foot-wide by 120-foot-high powerhouse located underground approximately 1,500 feet east of the lower reservoir at an elevation of approximately 6,000 feet msl; (12) three 250-megawatt (MW) reversible pump-turbines, totaling 750 MW of generating capacity; (13) a 2,950-foot-long, 24-foot-diamter access tunnel that would lead from ground level to the powerhouse; (14) either a single-circuit 345-kilovolt (kV) or double-circuit 230-kV transmission line extending approximately 1.1 mile in length to the Gondor substation, operated by Sierra Pacific Power and owned by Mt. White Power and partners in the Intermountain Power Project; and (15) associated interconnection equipment. The estimated annual generation of the project would be 1,970 gigawatt-hours.

Applicant Contact: Mr. Matthew Shapiro, CEO, Gridflex Energy, LLC, 1210 W. Franklin St., Ste. 2, Boise, Idaho 83702; phone: (208) 246-9925.

FERC Contact: Mary Greene; phone: (202) 502-8865.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13705-002.

More information about this project, including a copy of the application, can be viewed or printed on the “eLibrary” link of Commission's Web site at http://www.ferc.gov/docs-filing/elibrary.asp. Enter the docket number (P-13705) in the docket number field to access the document. For assistance, contact FERC Online Support.

Dated: September 18, 2013.
Kimberly D. Bose,
Secretary.

[FR Doc. 2013-23174 Filed 9-23-13; 8:45 am]

BILLING CODE 6717-01-P